DEPARTMENT OF TRANSPORTATION

Research and Special Programs Administration (RSPA)

49 CFR Parts 192 and 195

Pipeline Safety: Qualification of Pipeline Personnel

AGENCY: Office of Pipeline Safety, Research and Special Programs Administration, DOT.

ACTION: Notice of public meeting.

SUMMARY: The Research and Special Programs Administration's (RSPA) Office of Pipeline Safety (OPS) will conduct a public meeting to discuss progress in implementing the operator personnel qualification (OQ) rule for gas and hazardous liquid pipelines. OPS will introduce and describe the operator qualification inspection protocol development process and provide an opportunity for public comment. A panel of experts will respond to questions from the public.

DATES: The public meeting will be held on January 22, 2003, beginning promptly at 9 a.m. and will continue until 5 p.m. Persons wishing to make a presentation or statement at the meeting should notify Janice Morgan, (202) 366-2392, no later than January 15, 2003.

ADDRESSES: The public meeting will be held at the Hyatt Regency San Antonio (Riverwalk), 123 Losoya Street, San Antonio, TX 78205 (Tel: 210-222-1234; Fax: 210-227-4928; Web: http://www.sanantonioregency.hyatt.com. This meeting is free and open to the public. You may register electronically for this meeting at: http://primis.rspa.dot.gov/meetings/MtgHome.mtg?&mtg=5.

Following presentations by OPS on operator qualification compliance and inspection protocols, the public will have the opportunity to provide comments and to submit documents for the record. Preregistered organizations and individuals will be afforded the first opportunity to make their presentations.

Although we encourage persons wishing to comment on operator qualification compliance and inspection protocols to participate in the public meeting, written comments will be accepted. You may submit written comments on operator qualification implementation and compliance issues to Richard Huriaux, U.S. Department of Transportation, Room 7128, 400 Seventh Street, SW, Washington, DC 20590-0001.

FOR FURTHER INFORMATION CONTACT: You may contact Richard Huriaux at (202) 366-4565, regarding the agenda of this public meeting. General information about OPS programs may be obtained by accessing OPS's Internet home page at http://ops.dot.gov.

Information on Services for Individuals with Disabilities. For information on facilities or services for individuals with disabilities or to request special assistance, contact Janice Morgan, (202) 366-2392.

SUPPLEMENTARY INFORMATION: The operator qualification rules at 49 CFR 192.801 (for gas pipelines) and at 49 CFR 195.501 (for hazardous liquid pipelines) require every pipeline operator to have and follow a written personnel qualification program that includes provisions to identify covered tasks and to ensure that all persons performing these tasks are qualified to safely and effectively complete the tasks. By October 28, 2002, all gas and hazardous liquid pipeline operators should have completed the qualification of all individuals performing covered tasks on pipeline facilities.

On January 22, 2003, OPS will conduct a public meeting to discuss progress in implementing the operator personnel qualification rule for gas and hazardous liquid pipelines. OPS will present a detailed review of the development of the operator qualification inspection protocols.

The meeting will provide an opportunity to review compliance with the operator qualification rule, to clarify operator qualification requirements, and to hear compliance issues from Federal and State pipeline safety personnel, industry, and the public. All persons attending the meeting will have an opportunity to comment on operator qualification compliance issues and to question the expert panel on the new operator qualification compliance protocols.

Issued in Washington, DC on December 13, 2002.
Richard D. Huriaux,
Manager, Regulations, Office of Pipeline Safety.

[FR Doc. 02-32270 Filed 12-27-02; 4:07 pm]

BILLING CODE 4910-60-P